DEPARTMENT OF TRANSPORTATION

Federal Transit Administration

[FTA Docket No. FTA-2022-0020]

National Transit Database Safety and Security Reporting Changes and Clarifications

AGENCY: Federal Transit Administration, United States Department of Transportation (DOT).

ACTION: Notice; request for comments.

SUMMARY: This notice provides information on proposed changes and clarifications to the National Transit Database (NTD) Safety and Security (S&S) reporting requirements. Some of the proposed NTD changes would take place during the NTD report year (RY) 2023, which corresponds to an agency's fiscal year, while other changes will take place during calendar year (CY) 2023.

DATES: Comments are due by September 13, 2022. The Federal Transit Administration (FTA) will consider late comments to the extent practicable.

ADDRESSES: You may file comments identified by docket number FTA-2022-0020 by any of the following methods:

• Federal eRulemaking Portal: Go to https://www.regulations.gov and follow the online instructions for submitting comments.

• Mail: Send comments to Docket Management Facility, U.S. Department of Transportation, 1200 New Jersey Avenue SE, West Building Ground Floor, Room W12-140, Washington, DC 20590-0001.

• Hand Delivery or Courier: West Building Ground Floor, Room W12-140, 1200 New Jersey Ave. SE, between 9:00 a.m. and 5:00 p.m. ET, Monday through Friday, except Federal holidays.

• Fax: Fax comments to Docket Management Facility, U.S. Department of Transportation, at (202) 493-2251.

Instructions: You must include the agency name (Federal Transit Administration) and Docket Number (FTA-2022-0020) for this notice, at the beginning of your comments. If sent by mail, submit two copies of your comments.

Electronic Access and Filing: This document and all comments received may be viewed online through the Federal eRulemaking portal at http://www.regulations.gov or at the street address listed above. Electronic submission, retrieval help, and guidelines are available on the Federal eRulemaking portal website. The website is available 24 hours each day, 365 days a year. Please follow the instructions. An electronic copy of this document may also be downloaded from the Office of the Federal Register's home page at https://www.federalregister.gov.

Privacy Act: Except as provided below, all comments received into the docket will be made public in their entirety. The comments will be searchable by the name of the individual submitting the comment (or signing the comment, if submitted on behalf of an association, business, labor union, etc.). You should not include information in your comment that you do not want to be made public. You may review DOT's complete Privacy Act Statement in the Federal Register published on April 11, 2000 (65 FR 19477) or at https://www.transportation.gov/privacy.

FOR FURTHER INFORMATION CONTACT: Thomas Coleman, National Transit Database Program Manager, FTA Office of Budget and Policy, (202) 366-5333, thomas.coleman@dot.gov.

SUPPLEMENTARY INFORMATION:

Table of Contents

A. Background and Overview

B. Assaults on a Transit Worker

C. Fatalities That Result From an Impact With a Bus

A. Background and Overview

The National Transit Database (NTD) was established by Congress to be the Nation's primary source for information and statistics on the transit systems of the United States. Recipients and beneficiaries of Federal Transit Administration (FTA) grants under either the Urbanized Area Formula Program (49 U.S.C. 5307) or Rural Area Formula Program (49 U.S.C. 5311) are required by law to report to the NTD. FTA grantees that own, operate, or manage transit capital assets are required to provide more limited reports to the NTD regarding Transit Asset Management.

Pursuant to 49 U.S.C. 5334(k), FTA is seeking public comment on proposed NTD S&S reporting changes and clarifications. These proposals implement changes to Federal transportation law made by the Bipartisan Infrastructure Law, enacted as the Infrastructure Investment and Jobs Act (Pub. L. 117-58). FTA is proposing changes and clarifications on two topics: (1) assaults on a transit worker; and (2) fatalities that result from an impact with a bus. FTA seeks comments on the proposed changes and clarifications described below. The information below describes anticipated reporting impacts from each change or clarification, as well as the proposed effective date of each change. All impacts or changes described below are proposed and subject to finalization in a future notice.

B. Assaults on a Transit Worker

1. Definitions

The Bipartisan Infrastructure Law amended 49 U.S.C. 5335(c) to require that recipients of a grant under Chapter 53 submit to the NTD “any data on assaults on transit workers of the recipients.” The Bipartisan Infrastructure Law amended 49 U.S.C. 5302(1) to define “assault on a transit worker:”

[A] circumstance in which an individual knowingly, without lawful authority or permission, and with intent to endanger the safety of any individual, or with a reckless disregard for the safety of human life, interferes with, disables, or incapacitates a transit worker while the transit worker is performing the duties of the transit worker.

FTA will incorporate this definition into NTD reporting without change. Because FTA is adopting the statutory language verbatim, FTA is not seeking comment on the definition of “assault on a transit worker.” FTA is proposing to define “transit worker” as: “any employee, contractor, or volunteer working on behalf of the transit agency.”

To maintain consistency between this definition and the statutory definition of “assault on a transit worker,” FTA proposes to amend the definition of “assault” to: “an attack by one person on another without lawful authority or permission.” This will represent a change for the NTD program. Currently, the NTD Safety and Security Policy Manual defines “assault” as an “unlawful attack by one person upon another” for the “Major Event Report” (S&S-40) form.

2. Proposed Collections

Section 49 U.S.C. 5335(c) applies to “each recipient of a grant” under Chapter 53. Within this scope, FTA identified three different affected reporting groups: (1) full reporters; (2) reduced, tribal, and rural reporters; and (3) capital asset-only reporters. FTA proposes different ways to collect this data, depending on the reporter type as described below.

Full Reporters

FTA proposes that full reporters to the NTD report all assaults on transit workers on either the S&S-40 or S&S-50 (“Non-Major Summary Report”) forms. The S&S-40 captures safety and security “major event” reports such as fatalities. The S&S-50 collects monthly counts from full reporters related to `non-major' events. An assault on a transit worker is already required to be reported on the S&S-40 form if it meets one of the FTA's major event reporting thresholds listed in the NTD safety and security manual.¹

¹ https://www.transit.dot.gov/sites/fta.dot.gov/files/2022-02/2022%20Safety%20and%20Security%20Policy%20Manual%20Version%201.0_0.pdf.

The S&S-40 form is detailed, requiring one unique report per event. FTA proposes adding two new questions on the S&S-40 if the event is an assault or a homicide. The first proposed question asks reporters to identify whether assault or homicide events were against operators, other transit workers, or someone else. If the first question indicates an assault against an operator or other transit worker occurred, a second proposed question asks whether the assault was physical or non-physical, which are defined as follows:

• Physical Assault on a Transit Worker: An assault in which the attack involves physical contact with the transit worker. This could include any physical contact with the victim from the attacker's body, a weapon, a projectile, or other item.

• Non-Physical Assault on a Transit Worker: An assault in which the attack involves no physical contact with the transit worker. This could include threats or intimidation that did not result in any physical contact with the transit worker.

FTA proposes to require that any assault on a transit worker that is not reported on the S&S-40 must be reported on the S&S-50 form. Currently, the S&S-50 does not identify which non-major events involved assaults. FTA proposes to add a four-by-four matrix with sixteen fields to the S&S-50 to collect counts related to assaults on a transit worker. The matrix will ask for counts to be distinguished based on whether the assaults were physical or non-physical, whether they were assaults on operators or on other transit workers, and whether the assaults occurred in a transit vehicle, a revenue facility, a non-revenue facility, or some other location.

The following table identifies the 16 proposed S&S-50 questions:

New S&S-50 Questions
Location of event | Provide a count of non-major physical assaults on operators | Provide a count of non-major non-physical assaults on operators | Provide a count of non-major physical assaults on other transit workers | Provide a count of non-major non-physical assaults on other transit workers
In transit vehicle
In revenue facility
In non-revenue facility
Other

FTA considered proposing an alternative reporting option for full reporters where any assault on a transit worker would require an S&S-40 report. This alternative would have created an additional major event reporting threshold for the S&S-40. Under this alternative, no assaults on transit workers would be reportable on the S&S-50, even if no other major event reporting threshold was met. FTA did not select this alternative as FTA believes it would be substantially more burdensome on agencies because the S&S-40 report requires one report per event, while the S&S-50 requires only a monthly summary tally. FTA proposes that reporting for transit worker assault data on the S&S-40 and S&S-50 begin in calendar year 2023 as soon as practicable following publication of the Federal Register notice finalizing the NTD reporting changes.

Reduced Reporters, Tribal Reporters, and Rural Reporters

FTA proposes that reduced, tribal, and rural reporters must begin reporting assaults on transit workers on a new annual form (S&S-60). Reduced and rural reporter types already report safety data on the RR-20 form.

At present, the NTD asks three safety questions on the RR-20 form: total fatalities from the prior year, total injuries from the prior year, and total events from the prior year. FTA proposes to remove these questions from the RR-20 form and transfer them to the new S&S-60 form. Additionally, FTA proposes asking these reporters to report transit worker assault data using matrix format. Mock-ups of a matrix for physical and non-physical assaults are shown below:

New S&S-60 Questions
[Physical assaults]
| Physical assaults in transit vehicle | Physical assaults in revenue facility | Physical assaults in non-revenue facility | Physical assaults in other location
Total Event Counts
Major Safety and Security Events
Non-Major Events (non-injury)
Injury Counts
Operator Injuries
Other Transit Worker Injuries
Other Injuries
Fatality Counts
Operator Fatalities
Other Transit Worker Fatalities
Other Fatalities

New S&S-60 Questions
[Non-physical assaults]
| Non-physical assaults in transit vehicle | Non-physical assaults in revenue facility | Non-physical assaults in non-revenue facility | Non-physical assaults in other location
Total Event Counts
Major Safety and Security Events
Non-Major Events (non-injury)
Injury Counts
Operator Injuries
Other Transit Worker Injuries
Other Injuries
Fatality Counts
Operator Fatalities
Other Transit Worker Fatalities
Other Fatalities

The proposed S&S-60 form will collect data that is similar to the data captured from full reporters on both the S&S-40 and S&S-50 forms. This would facilitate consistent data collection from all reporters. The proposed S&S-60 questions are intended to provide annual counts of where transit worker assaults occurred, whether assaults were against operators or other transit workers, whether the assaults were physical or non-physical, whether the events were major or non-major (consistent with the S&S-40 and S&S-50 definitions), and counts of affected person-type(s). FTA proposes that reporting for transit worker assault data on the S&S-60 begin in RY 2023.

FTA considered two alternative reporting options for reduced, tribal, and rural reporters. FTA considered an option that would require an S&S-40 report for any assault on a transit worker. FTA did not select this approach as it FTA believes it would be substantially more burdensome on agencies as the S&S-40 report requires one report per event, while the S&S-60 is a monthly summary tally.

FTA also considered an option where the S&S-60 would only ask for a total tally of all annual transit worker assaults as opposed to the counts of transit worker assaults by location, major vs. non-major assault, etc. FTA did not select this proposal as it would not make the data useful to understand risk trends. For instance, risk trends change by location—transit worker assaults rates may be higher in revenue vehicles as opposed to in revenue facilities, and understanding this data is critical to identifying potential mitigations. Thus, it was determined collecting only a total tally of all annual transit worker assaults would not provide useful data.

Capital Asset-Only Reporters

FTA proposes that capital asset-only reporters must begin reporting assaults on transit workers on a new annual form (S&S-60). The S&S-60 is shown above, and asks for annual counts of transit worker assaults across two different matrixes. FTA considered, but did not select, two alternative reporting options for capital asset-only reporters. The first alternative would have required these reporters to report any assault on a transit worker on the S&S-40 form. FTA did not select this approach as it was determined it would be substantially more burdensome on agencies as the S&S-40 report requires one report per event, while the S&S-60 is a monthly summary tally.

FTA also considered an option where the S&S-60 would ask for a single total tally of all transit worker assaults as opposed to collecting the counts of transit worker assaults by location, major vs. non-major assault, etc. FTA did not select this proposal as it would not make the data useful to understand risk trends. For instance, risk trends change by location—transit worker assaults rates may be higher in revenue vehicles as opposed to in revenue facilities, and understanding this data is critical to identifying potential mitigations. Thus, it was determined collecting only a total tally of all annual transit worker assaults would not provide useful data.

C. Fatalities That Result From an Impact With a Bus

The Bipartisan Infrastructure Law also amended 49 U.S.C. 5335(c) to require “each recipient of a grant” under Chapter 53 to report “any data on fatalities that result from an impact with a bus.” Within this scope, FTA identified three different affected reporting groups: (1) full reporters; (2) reduced, tribal, and rural reporters; and (3) capital asset-only reporters. FTA proposes different ways to collect this data, depending on the reporter type as described below.

Full Reporters

Full NTD reporters already report all fatalities that result from an impact with a bus to the NTD because all events that result in a fatality, including those from an impact (or “collision”) with a bus, must be reported on the S&S-40 form.² Nevertheless, FTA welcomes comments on whether the Bipartisan Infrastructure Law otherwise affects reporting for full reporters.

² The NTD Safety and Security Policy Manual also defines collision as “an accident in which there is an impact of a transit vehicle or vessel with another vehicle or object.”

Reduced Reporters, Tribal Reporters, and Rural Reporters

Because 49 U.S.C. 5335(c) applies to all Chapter 53 recipients, FTA proposes to collect bus fatality collision data from rural, reduced, and tribal reporters on the new S&S-60 form. The RR-20 form currently collects summary annual fatality data from these reporters. However, the form combines fatality counts of all types, making fatalities that result from an impact with a bus indistinguishable from other fatalities. The RR-20 also does not distinguish major events from non-major events.

As discussed above, FTA is proposing to remove the safety-related questions from the RR-20 form and add them to the new S&S-60 form. FTA is proposing to add eleven questions on a matrix in the S&S-60. The proposed form will delineate collisions with pedestrians and vehicles, as well as major from non-major events. FTA proposes that these changes take effect in RY 2023. The proposed matrix is shown below:

Event type | Major events | Fatalities | Injuries
Collisions with Pedestrian(s)
Collisions with Vehicle(s)
Collisions with Other (e.g., animal, manhole, shopping cart, etc.)
Other Major Events
Total reportable injuries from non-major events | Not Applicable. | Not Applicable.

FTA also considered an alternative reporting option for reduced, tribal, and rural reporters where all fatalities that result from an impact with a bus would require an S&S-40 report. FTA did not select this approach as FTA believes it would be substantially more burdensome on agencies as the S&S-40 report requires a report per event, while the S&S-60 is a monthly summary tally.

Capital Asset-Only Reporters

FTA proposes that capital asset-only reporters must begin reporting data on fatalities that result from an impact with a bus on a new annual form (S&S-60). The S&S-60, which will replace the major event, fatality, and injury questions on the RR-20, currently does not apply to capital asset-only reporters. The relevant section of the S&S-60 is shown above, and asks for counts of major events, fatalities, and injuries.

FTA also considered an alternative reporting option for capital asset-only reporters where any fatality that resulted from an impact with a bus would require an S&S-40 report. FTA did not select this approach as FTA believes it would be substantially more burdensome on agencies as the S&S-40 report requires a report per event, while the S&S-60 is a monthly summary tally.

Nuria I. Fernandez,
Administrator.

[FR Doc. 2022-15167 Filed 7-14-22; 8:45 am]

BILLING CODE P